DEPARTMENT OF HEALTH AND HUMAN SERVICES

Health Resources and Services Administration

Agency Information Collection Activities: Proposed Collection: Public Comment Request Information Collection Request Title: Scientific Registry of Transplant Recipients Information Collection Effort for Potential Donors for Living Organ Donation OMB No. 0906-0034—Extension

Correction

In notice document 2020-28017 appearing on pages 83098-83099 in the issue of Monday, December 21, 2020, make the following correction:

(1) On page 83098, in the second column, in the DATES section, change “January 20, 2021” to read “January 21, 2021.”

[FR Doc. C1-2020-28017 Filed 1-12-21; 8:45 am]

BILLING CODE 1301-00-D